ENVIRONMENTAL PROTECTION AGENCY

[FRL-9996-65-OW]

Notice of Availability of the Deepwater Horizon Oil Spill Louisiana Trustee Implementation Group Final Supplemental Restoration Plan and Environmental Assessment for the Lake Charles Science Center and Educational Complex Project Modification and Finding of No Significant Impact

AGENCY: Environmental Protection Agency (EPA).

ACTION: Notice of availability.

SUMMARY: In accordance with the Oil Pollution Act of 1990 (OPA) and the National Environmental Policy Act (NEPA), the Federal and State natural resource trustee agencies for the Louisiana Trustee Implementation Group (Louisiana TIG) have prepared the Final Supplemental Restoration Plan and Environmental Assessment for the Lake Charles Science Center and Educational Complex Project Modification (Final Supplemental RP/EA). The Final Supplemental RP/EA describes and, in conjunction with the associated Finding of No Significant Impact (FONSI), selects the modified Lake Charles Science Center and Educational Complex (SCEC) project considered by the Louisiana TIG to compensate for recreational use services lost as a result of the Deepwater Horizon oil spill. The Louisiana TIG evaluated project alternatives under criteria set forth in the OPA natural resource damage assessment (NRDA) regulations, and evaluated the environmental consequences of the alternatives in accordance with the NEPA. The selected project is consistent with the restoration alternatives selected in the Deepwater Horizon oil spill Final Programmatic Damage Assessment and Restoration Plan/Programmatic Environmental Impact Statement (PDARP/PEIS). The Federal Trustees of the Louisiana TIG have determined that implementation of the Final Supplemental RP/EA is not a major federal action significantly affecting the quality of the human environment within the context of the NEPA. They have concluded a FONSI is appropriate, and, therefore, an Environmental Impact Statement will not be prepared. The purpose of this notice is to inform the public of the approval and availability of the Final Supplemental RP/EA and FONSI.

ADDRESSES: Obtaining Documents: You may download the Final Supplemental RP/EA at any of the following sites:

• http://www.gulfspillrestoration.noaa.gov

• http://www.la-dwh.com

Alternatively, you may request a CD of the Final Supplemental RP/EA (see FOR FURTHER INFORMATION CONTACT). You may also view the document at any of the public facilities listed at http://www.gulfspillrestoration.noaa.gov.

FOR FURTHER INFORMATION CONTACT:

• Louisiana—Joann Hicks, 225-342-5477

• EPA—Tim Landers, 202-566-2231

SUPPLEMENTARY INFORMATION:

Introduction

On April 20, 2010, the mobile offshore drilling unit Deepwater Horizon, which was being used to drill a well for BP Exploration and Production, Inc. (BP), in the Macondo prospect (Mississippi Canyon 252-MC252), experienced a significant explosion, fire, and subsequent sinking in the Gulf of Mexico, resulting in an unprecedented volume of oil and other discharges from the rig and from the wellhead on the seabed. The Deepwater Horizon oil spill is the largest off shore oil spill in U.S. history, discharging millions of barrels of oil over a period of 87 days.

The Trustees conducted the natural resource damage assessment for the Deepwater Horizon oil spill under the Oil Pollution Act of 1990 (33 United States Code 2701 et seq.). Under the OPA, federal and state agencies act as trustees on behalf of the public to assess natural resource injuries and losses, and to determine the actions required to compensate the public for those injuries and losses. The OPA further instructs the designated trustees to develop and implement a plan for the restoration, rehabilitation, replacement, or acquisition of the equivalent of the injured natural resources under their trusteeship, including the loss of use and services from those resources from the time of injury until the time of restoration to baseline (the resource quality and conditions that would exist if the spill had not occurred) is complete.

The Deepwater Horizon oil spill Trustees are:

• U.S. Environmental Protection Agency (EPA);

• U.S. Department of the Interior (DOI), as represented by the National Park Service, U.S. Fish and Wildlife Service, and Bureau of Land Management;

• National Oceanic and Atmospheric Administration (NOAA), on behalf of the U.S. Department of Commerce;

• U.S. Department of Agriculture (USDA);

• State of Louisiana Coastal Protection and Restoration Authority (CPRA), Oil Spill Coordinator's Office (LOSCO), Department of Environmental Quality (LDEQ), Department of Wildlife and Fisheries (LDWF), and Department of Natural Resources (LDNR);

• State of Mississippi Department of Environmental Quality;

• State of Alabama Department of Conservation and Natural Resources and Geological Survey of Alabama;

• State of Florida Department of Environmental Protection and Fish and Wildlife Conservation Commission; and

• State of Texas Parks and Wildlife Department, General Land Office, and Commission on Environmental Quality.

On April 4, 2016, the Trustees reached and finalized a settlement of their natural resource damage claims with BP in a Consent Decree approved by the United States District Court for the Eastern District of Louisiana. Pursuant to that Consent Decree, restoration projects in the Louisiana Restoration Area are now chosen and managed by the Louisiana TIG. The Louisiana TIG is composed of the following Trustees: CPRA, LOSCO, LDEQ, LDWF, LDNR, EPA, DOI, NOAA, USDA.

Background

The original scope and design of the Lake Charles SCEC project were evaluated in the Deepwater Horizon Oil Spill Louisiana TIG Final Restoration Plan and Environmental Assessment #2: Provide and Enhance Recreational Opportunities (Final RP/EA #2), which was published on July 20, 2018. As described in the Final RP/EA #2, the Lake Charles SCEC project would enhance recreational opportunities by providing indoor and outdoor public visitation and outreach components, including fisheries extension, access, outreach, and education to the public. Following release of the Final RP/EA #2, the City of Lake Charles requested that the Louisiana TIG consider collocating the Lake Charles SCEC with the City's planned Lake Charles Children's Museum (LCCM). The Louisiana TIG prepared a Draft Supplemental Restoration Plan and Environmental Assessment for the Lake Charles SCEC Project Modification (Draft Supplemental RP/EA) to evaluate potential revisions to the Lake Charles SCEC project, to inform the public about potential modifications to the project, and to seek public comment. A Notice of Availability of the Draft Supplemental RP/EA was published in the Federal Register on April 19, 2019. The Louisiana TIG hosted a public meeting on May 8, 2019, in Lake Charles, and the public comment period for the Draft Supplemental RP/EA closed on May 20, 2019. The Louisiana TIG considered the public comments received on the Draft Supplemental RP/EA, which informed the Louisiana TIG's analyses and selection of the modified Lake Charles SCEC project in the Final Supplemental RP/EA. A summary of the public comments received and the Trustees' responses to those comments are included in Section 7 of the Final Supplemental RP/EA.

Overview of the Final Supplemental RP/EA

The Final Supplemental RP/EA evaluates modifications to the Lake Charles SCEC project and considers alternatives, consistent with the purpose and need of the original project. Alternatives considered include the collocation of the Lake Charles SCEC and LCCM with variations of indoor and outdoor components to support recreational and educational opportunities, as well as a No Action alternative. In the Final Supplemental RP/EA, the Louisiana TIG selects project Alternative C: Revised Location with Fishing Pier. The selected alternative would collocate the Lake Charles SCEC with the planned LCCM on the north shore of Lake Charles. The modified project would include immersive exhibits, aquaria, touch tanks, outdoor walking trails, and a recreational fishing pier over Lake Charles. In the Final Supplemental RP/EA, the Louisiana TIG presents to the public its plan to continue the process of restoring recreational use services lost in the Louisiana Restoration Area as a result of the Deepwater Horizon oil spill. The total estimated cost of the selected project, as modified, is $7 million. Additional restoration planning for the Louisiana Restoration Area will continue.

Administrative Record

The documents comprising the Administrative Record for the Final Supplemental RP/EA can be viewed electronically at https://www.doi.gov/deepwaterhorizon/adminrecord.

Authority

The authority for this action is the Oil Pollution Act of 1990 (33 U.S.C. 2701 et seq.), its implementing NRDA regulations at 15 CFR part 990, and the NEPA (42 U.S.C. 4321 et seq.).

Dated: July 9, 2019.
Benita Best-Wong,
Deputy Assistant Administrator, Office of Water.

[FR Doc. 2019-14992 Filed 7-18-19; 8:45 am]

BILLING CODE 6560-50-P